DEPARTMENT OF ENERGY

10 CFR Part 430

[Docket No. EERE-2008-BT-STD-0005]

RIN 1904-AB57

Energy Efficiency Program for Consumer Products: Energy Conservation Standards for Battery Chargers and External Power Supplies

AGENCY: Office of Energy Efficiency and Renewable Energy, Department of Energy.

ACTION: Reopening of comment period.

SUMMARY: This document announces a reopening of the comment period for 15 days in order to consider comments previously submitted after the close of the earlier comment period and to allow interested parties to submit comments on the notice of proposed rulemaking to establish energy conservation standards for battery chargers and external power supplies.

DATES: Comments must be submitted no later than July 16, 2012.

ADDRESSES: Any comments submitted must identify the subject matter (“Notice of Proposed Rulemaking to Establish Energy Conservation Standards for Battery Chargers and External Power Supplies”) and provide the appropriate docket number (EERE-2008-BT-STD-0005) and/or RIN number (1904-AB57). Comments may be submitted using any of the following methods:

• Federal eRulemaking Portal: http://www.regulations.gov. Follow the instructions for submitting comments.

• Email: BC&EPS_ECS@ee.doe.gov. Include docket number EERE-BT-STD-0005 and/or RIN number 1904-AB57 in the subject line of the message.

• Mail: Ms. Brenda Edwards, U.S. Department of Energy, Building Technologies Program, Mail-stop EE-2J, Notice of Propsed Rulemaking to Establish Energy Conservation Standards for Battery Chargers and External Power Supplies, docket number EERE-2008-BT-STD-0005 and/or RIN number 1904-AB57, 1000 Independence Avenue SW., Washington, DC 20585-0121. Please submit one signed paper original.

• Hand Delivery/Courier: Ms. Brenda Edwards, U.S. Department of Energy, Building Technologies Program, 950 L'Enfant Plaza SW., Suite 600, Washington, DC 20024. Telephone: (202) 586-2945. Please submit one signed paper original.

FOR FURTHER INFORMATION CONTACT:

Mr. Jeremy Dommu, U.S. Department of Energy, Office of Energy Efficiency and Renewable Energy, Building Technologies Program, EE-2J, 1000 Independence Avenue SW., Washington, DC 20585-0121. Telephone: (202) 586-9870. Email: Jeremy.Dommu @ee.doe.gov.

Mr. Michael Kido, U.S. Department of Energy, Office of the General Counsel, GC-71, 1000 Independence Avenue SW., Washington, DC, 20585-0121. Telephone: (202) 586-8145. Email: Michael.Kido@hq.doe.gov.

For information on how to submit or review public comments, contact Ms. Brenda Edwards, U.S. Department of Energy, Office of Energy Efficiency and Renewable Energy, Building Technologies Program, EE-2J, 1000 Independence Avenue SW., Washington, DC 20585-0121. Telephone: (202) 586-2945. Email: Brenda.Edwards@ee.doe.gov.

SUPPLEMENTARY INFORMATION: On March 27, 2012, the U.S. Department of Energy (DOE) published in the Federal Register a Notice of Proposed Rulemaking (NOPR) that would establish energy conservation standards for battery chargers and amend those that currently apply to Class A external power supplies (EPSs). (77 FR 18478) That notice also proposed to establish standards for non-Class A EPSs and possible labeling requirements for battery chargers and EPSs. The comment period for this NOPR closed on May 29, 2012.

Recently, after the closing of the comment period, DOE has received comments on this rulemaking from interested parties. These comments submit additional information for DOE to consider as part of its evaluation of potential standards for battery chargers and EPSs. In order to consider comments previously submitted after the close of the earlier comment period and to allow interested parties to submit comments on the NOPR, DOE has determined that a re-opening of the comment period in this rulemaking is appropriate and is hereby doing so. DOE will consider any comments received between March 27, 2012 and July 16, 2012 to be timely submitted.

Further Information on Submitting Comments

Under 10 CFR 1004.11, any person submitting information that he or she believes to be confidential and exempt by law from public disclosure should submit two copies: one copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC on June 25, 2012.
Kathleen Hogan,
Deputy Assistant Secretary for Energy Efficiency, Energy Efficiency and Renewable Energy.

[FR Doc. 2012-15987 Filed 6-28-12; 8:45 am]

BILLING CODE 6450-01-P